DEPARTMENT OF STATE

[Public Notice: 12792]

Proposal To Extend Emergency Import Restrictions Imposed on Archaeological and Ethnological Material From Afghanistan

ACTION: Public notice.

SUMMARY: Proposal to extend the emergency import restrictions unilaterally imposed by the United States on archaeological and ethnological material from Afghanistan, pursuant to 19 U.S.C. 2603.

FOR FURTHER INFORMATION CONTACT: Anashya Srinivasan, Cultural Heritage Center, Bureau of Educational and Cultural Affairs: (202) 632-9459; culprop@state.gov; include “Afghanistan” in the subject line.

SUPPLEMENTARY INFORMATION: Pursuant to the authority vested in the Acting Assistant Secretary of State for Educational and Cultural Affairs, and pursuant to 19 U.S.C. 2602(f)(1), an extension of the emergency import restrictions on archaeological and ethnological material from Afghanistan is hereby proposed.

The emergency import restrictions and the Designated List of categories of material currently restricted from import into the United States can be found at the Cultural Heritage Center website: https://www.state.gov/current-agreements-and-import-restrictions/.

Virginia R. Herrmann,
Alternate Designated Federal Officer, Cultural Property Advisory Committee, Bureau of Educational and Cultural Affairs, Department of State.

[FR Doc. 2025-15019 Filed 8-6-25; 8:45 am]

BILLING CODE 4710-05-P